DEPARTMENT OF ENERGY

Federal Energy Regulatory Commission

Combined Notice of Filings

July 29, 2010.

Take notice that the Commission has received the following Natural Gas Pipeline Rate and Refund Report filings:

Docket Numbers: RP10-1000-000.

Applicants: Kinder Morgan Interstate Gas Transmission LLC.

Description: Kinder Morgan Interstate Gas Transmission LLC submits Thirteenth Revised Sheet 4G.02 to FERC Gas Tariff, Fourth Revised Volume 1A, to be effective 8/1/10.

Filed Date: 07/28/2010.

Accession Number: 20100728-0207.

Comment Date: 5 p.m. Eastern Time on Monday, August 9, 2010.

Docket Numbers: RP10-1001-000.

Applicants: Tres Palacios Gas Storage LLC.

Description: Tres Palacios Gas Storage LLC submits tariff filing per 154.203: Tres Palacios Gas Storage LLC, Baseline Tariff Filing to be effective 7/28/2010.

Filed Date: 07/28/2010.

Accession Number: 20100728-5050.

Comment Date: 5 p.m. Eastern Time on Monday, August 9, 2010.

Docket Numbers: RP10-1002-000.

Applicants: Northern Natural Gas Company.

Description: Northern Natural Gas Company submits 1 Revised 35 Revised Sheet 54 et al. to FERC Gas Tariff, Fifth Revised Volume 1 to be effective 9/1/10.

Filed Date: 07/28/2010.

Accession Number: 20100728-0208.

Comment Date: 5 p.m. Eastern Time on Monday, August 9, 2010.

Docket Numbers: RP10-1003-000.

Applicants: Carolina Gas Transmission Corporation.

Description: Carolina Gas Transmission Corporation's Penalty Revenue Sharing Filing for 2010.

Filed Date: 07/27/2010.

Accession Number: 20100727-5162.

Comment Date: 5 p.m. Eastern Time on Monday, August 9, 2010.

Docket Numbers: RP10-1004-000.

Applicants: Northern Border Pipeline Company.

Description: Northern Border Pipeline Company submits tariff filing per 154.203: Baseline Filing to be effective 7/28/2010.

Filed Date: 07/28/2010.

Accession Number: 20100728-5109.

Comment Date: 5 p.m. Eastern Time on Monday, August 9, 2010.

Docket Numbers: RP10-1005-000.

Applicants: Gulf South Pipeline Company, LP.

Description: Gulf South Pipeline Company, LP submits tariff filing per 154.203: Compliance Filing in RP10-872 to be effective 7/22/2010.

Filed Date: 07/28/2010.

Accession Number: 20100728-5118.

Comment Date: 5 p.m. Eastern Time on Monday, August 9, 2010.

Docket Numbers: RP10-1006-000.

Applicants: Liberty Gas Storage, LLC.

Description: Liberty Gas Storage, LLC submits tariff filing per 154.203: Liberty Gas Storage LLC FERC Gas Tariff to be effective 8/1/2010.

Filed Date: 07/28/2010.

Accession Number: 20100728-5155.

Comment Date: 5 p.m. Eastern Time on Monday, August 9, 2010.

Docket Numbers: RP10-1007-000.

Applicants: Rockies Express Pipeline LLC.

Description: Rockies Express Pipeline LLC submits tariff filing per 154.204: Negative Rate 2010-07-28 to be effective 8/1/2010.

Filed Date: 07/28/2010.

Accession Number: 20100728-5157.

Comment Date: 5 p.m. Eastern Time on Monday, August 9, 2010.

Docket Numbers: RP10-1008-000.

Applicants: Fayetteville Express Pipeline LLC.

Description: Fayetteville Express Pipeline LLC submits Original Sheet No 1 et al. to FERC Gas Tariff, Original Volume No 1, to be effective 10/1/10.

Filed Date: 07/28/2010.

Accession Number: 20100729-0204.

Comment Date: 5 p.m. Eastern Time on Monday, August 9, 2010.

Docket Numbers: RP10-1009-000.

Applicants: Carolina Gas Transmission Corporation.

Description: Carolina Gas Transmission Corporation submits tariff filing per 154.203: Compliance new tariff (Baseline) to be effective 8/1/2010.

Filed Date: 07/29/2010.

Accession Number: 20100729-5034.

Comment Date: 5 p.m. Eastern Time on Tuesday, August 10, 2010.

Docket Numbers: RP10-1010-000.

Applicants: Transcontinental Gas Pipe Line Company.

Description: Transcontinental Gas Pipe Line Company, LLC submits tariff filing per 154.203: Baseline Filing and Amendment to Non-Conf Agmt and Negotiated Rate Agmt Filing to be effective 7/22/2010.

Filed Date: 07/29/2010.

Accession Number: 20100729-5040.

Comment Date: 5 p.m. Eastern Time on Tuesday, August 10, 2010.

Docket Numbers: RP10-1011-000.

Applicants: Texas Eastern Transmission, LP.

Description: Texas Eastern Transmission, LP submits tariff filing per 154.204: FOSA Modifications to be effective 9/1/2010.

Filed Date: 07/29/2010.

Accession Number: 20100729-5052.

Comment Date: 5 p.m. Eastern Time on Tuesday, August 10, 2010.

Docket Numbers: OR10-17-000.

Applicants: Bear Paw Energy, LLC.

Description: Application for temporary waiver of filing and reporting requirements under the Interstate Commerce Act and Parts 341 and 357 of the Commission's rules of Bear Paw Energy, LLC.

Filed Date: 07/09/2010.

Accession Number: 20100712-5008.

Comment Date: 5 p.m. Eastern Time on Monday, August 9, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-19241 Filed 8-4-10; 8:45 am]

BILLING CODE 6717-01-P